DEPARTMENT OF THE INTERIOR

National Park Service

[NPS-WASO-NAGPRA-NPS0033280; PPWOCRADN0-PCU00RP14.R50000]

American Museum of Natural History, New York, NY; Correction

AGENCY: National Park Service, Interior.

ACTION: Notice; correction.

SUMMARY: The American Museum of Natural History (AMNH) has corrected an inventory of human remains and associated funerary objects published in a Notice of Inventory Completion in the Federal Register on August 10, 2018. This notice corrects the minimum number of individuals and number of associated funerary objects. Lineal descendants or representatives of any Indian Tribe or Native Hawaiian organization not identified in this notice that wish to request transfer of control of these human remains and associated funerary objects should submit a written request to the American Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the American Museum of Natural History at the address in this notice by February 25, 2022.

FOR FURTHER INFORMATION CONTACT: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the correction of an inventory of human remains and associated funerary objects under the control of the American Museum of Natural History, New York, NY. The human remains and associated funerary objects were removed from Mercer County, NJ, and Richmond County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (83 FR 39777-39779, August 10, 2018). The Museum received copies of archival documentation housed in a different institution that pertains to the AMNH's excavations at the Abbott Farm site, Mercer County, NJ. This new information led Museum staff to identify an additional 21 culturally affiliated human remains and an additional 56 associated funerary objects. Transfer of control of the items in this correction notice has not occurred.

Correction

In the Federal Register (83 FR 39778, August 10, 2018, FR Doc #2018-17217, on page 39778), column 1, paragraph 3, under History and Description of the Remains, sentence 7 is corrected by substituting the following sentence:

The 10 associated funerary objects—10 pieces of pottery—were found with these human remains.

In the Federal Register (83 FR 39778, August 10, 2018, FR Doc #2018-17217, on page 39778), columns 1 and 2 are corrected by adding the following paragraphs at the end of paragraph 4 to replace the existing paragraphs:

In 1896, human remains representing, at minimum, 10 individuals, were removed from NJ, Mercer County, Delaware Valley, one mile south of Trenton, Andrew K. Rowan Farm, Village Site. The human remains were excavated by Ernest Volk during an AMNH sponsored expedition. The AMNH accessioned the human remains that same year. The human remains include two adult females, one adult who is likely female, six adults whose sex is indeterminate, and one individual whose age and sex are indeterminate. No known individuals were identified. The 26 associated funerary objects include five implements (one of which is broken), one celt, one broken clay pipe, one scrapper, one chip, three pieces of pottery fragments and 14 sherds. Artifact analysis and burial depth suggest that these human remains and associated funerary objects date to the Middle Woodland Period (A.D. 200-900).

In 1898, human remains representing, at minimum, four individuals, were removed from NJ, Mercer County, Delaware Valley, one mile south of Trenton, Andrew K. Rowan Farm, Lowland. The human remains were excavated by Ernest Volk during an AMNH sponsored expedition. The AMNH accessioned the human remains that same year. The human remains include one adult female, two adults whose sex is indeterminate, and one adult who is likely male. No known individuals were identified. The five associated funerary objects include three implements, one animal tooth, and one lot of pottery fragments. Artifact analysis and burial depth suggest that these human remains and associated funerary objects date to the Middle Woodland Period (A.D. 200-900).

In 1898, human remains representing, at minimum, two individuals were removed from NJ, Mercer County, Delaware Valley, one mile south of Trenton, Andrew K. Rowan Farm, Village site, Lowland. The human remains were excavated by Ernest Volk during an AMNH sponsored expedition. The AMNH accessioned the human remains that same year. The human remains include one adult who is likely male and one adult whose sex is indeterminate. No known individuals were identified. No associated funerary objects are present. Burial depth suggests that these human remains date to the Middle Woodland Period (A.D. 200-900).

In 1898, human remains representing, at minimum, two individuals were removed from NJ, Mercer County, Delaware Valley, one mile south of Trenton, Andrew K. Rowan Farm Village site. The human remains were excavated by Ernest Volk during an AMNH sponsored expedition. The AMNH accessioned the human remains that same year. The human remains include two individuals of unknown sex or age. No known individuals were identified. The two associated funerary objects are one beaver tooth and one lot of pottery fragments. Burial depth suggests that these human remains date to the Middle Woodland Period (A.D. 200-900).

In 1899, human remains representing, at minimum, one individual were removed from NJ, Mercer County, Delaware Valley, 1 mile south of Trenton, Andrew K. Rowan Farm, Village Site. The human remains were excavated by Ernest Volk during an AMNH sponsored expedition. The AMNH accessioned the human remains that same year. The human remains include one subadult. No known individual was identified. The one associated funerary object is one lot of animal bone fragments. Burial depth suggests that these human remains date to the Middle Woodland Period (A.D. 200-900).

In 1899, human remains representing, at minimum, two individuals were removed from NJ, Mercer County, Abbott Farm, Trench 1. The human remains were excavated by Ernest Volk during an AMNH sponsored expedition. The AMNH accessioned the human remains that same year. The human remains include two adults whose sex is indeterminate. No known individuals were identified. The 14 associated funerary objects include one lot of beaver teeth fragments, one fragmentary pot (more than 50 pieces), two pieces of white quarts, two flakes, one broken spearpoint, one broken point, one bone implement, one unfinished implement, one implement (knife?), and three blade pieces. Artifact analysis and burial depth suggest that these human remains and associated funerary objects date to the Middle Woodland Period (A.D. 200-900).

In the Federal Register (83 FR 39778, August 10, 2018, FR Doc #2018-17217, on page 39778), column 3, paragraph 3, is corrected by substituting the following paragraph:

We infer that the human remains and associated funerary objects from Abbott Farm, Bowman's Brook, and Burial Ridge date to the Middle Woodland (A.D. 200-900) or later. Historically, these three locales lay within Lenape territory during the contact period, while archeological and linguistic data indicate a cultural continuity extending back to the Middle Woodland Period.

In the Federal Register (83 FR 39778, August 10, 2018, FR Doc #2018-17217, on page 39779), column 1, paragraph 1 under the heading “Determinations Made by the American Museum of Natural History,” after “Officials of the American Museum of Natural History have determined that,” sentences 1 and 2 are corrected by substituting the following sentences:

• Pursuant to 25 U.S.C. 3001(9), the human remains described in this notice represent the physical remains of 68 individuals of Native American ancestry.

• Pursuant to 25 U.S.C. 3001(3)(A), the 226 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Nell Murphy, American Museum of Natural History, Central Park West at 79th Street, New York, NY 10024, telephone (212) 769-5837, email nmurphy@amnh.org, by February 25, 2022. After that date, if no additional requestors have come forward, transfer of control of the human remains and associated funerary objects to the Delaware Nation, Oklahoma; Delaware Tribe of Indians; and the Stockbridge Munsee Community, Wisconsin may proceed.

The American Museum of Natural History is responsible for notifying the Delaware Nation, Oklahoma; Delaware Tribe of Indians; and the Stockbridge Munsee Community, Wisconsin that this notice has been published.

Dated: January 12, 2022.
Melanie O'Brien,
Manager, National NAGPRA Program.

[FR Doc. 2022-01036 Filed 1-25-22; 8:45 am]

BILLING CODE 4312-52-P\